FEDERAL MARITIME COMMISSION

Sunshine Act Meeting; Correction

AGENCY: Federal Maritime Commission.

ACTION: Notice; correction.

SUMMARY: The Federal Maritime Commission published a document in the Federal Register on April 8, 2015, concerning the April 13, 2015 Sunshine Act Meeting. The document contained incorrect status.

FOR FURTHER INFORMATION CONTACT: Karen Gregory, (202) 523-5725.

Correction

In the Federal Register of April 8, 2015, in FR Doc. 2015-08184, on page 18842, in the first column, correct the “Status” caption to read:

Status: The meeting will be held in Closed Session.

Dated: April 8, 2015.
Karen V. Gregory,
Secretary.

[FR Doc. 2015-08396 Filed 4-8-15; 4:15 pm]

BILLING CODE 6731-AA-P